DEPARTMENT OF TRANSPORTATION

Notice of Intent To Rule on Request To Release Airport Property at the Gunnison-Crested Butte Regional Airport, Gunnison, CO

AGENCY: Federal Aviation Administration (FAA), DOT.

ACTION: Notice of request to release airport property.

SUMMARY: The FAA proposes to rule and invite public comments on the release of land at the Gunnison-Crested Butte Regional Airport under the provisions of Section 125 of the Wendell H. Ford Aviation Investment Reform Act for the 21st Century (AIR 21).

DATES: Comments must be received on or before January 23, 2004.

ADDRESSES: Comments on this application may be mailed or delivered to the FAA at the following address: Mr. Craig A. Sparks, Manager, Federal Aviation Administration, Northwest Mountain Region, Airports Division, Denver Airports District Office, 26805 E. 68th Ave., Suite 224, Denver, Colorado, 80249.

In addition, one copy of any comments submitted to the FAA must be mailed or delivered to Ms. Katherine L. Lucas, Administrative Director, Gunnison-Crested Butte Regional Airport, 711 West Rio Grande, Gunnison, Colorado, 81230.

FOR FURTHER INFORMATION CONTACT: Mr. Chris Schaffer, Project Manager, Federal Aviation Administration, Northwest Mountain Region, Airports Division, Denver Airports District Office, 26805 E. 68th Ave., Suite 224, Denver, Colorado 80249.

The request to release property may be reviewed in person at this same location.

SUPPLEMENTARY INFORMATION: The FAA invites public comment on the request to release property at the Gunnison-Crested Butte Regional Airport under the provisions of the AIR 21.

On July 16, 2003, the FAA determined that the request to release property at the Gunnison-Crested Butte Regional Airport submitted by the County of Gunnison, Colorado met the procedural requirements of the Federal Aviation Regulations, Part 155. The FAA may approve the request, in whole or in part, no later than January 31, 2004.

The following is a brief overview of the request: The Gunnison-Crested Butte Regional Airport requests the release of 0.44 acres of non-aeronautical airport property to the County of Gunnison, Colorado. The purpose of this release is to allow Gunnison County to sell the subject land that has been effectively severed from other airport property and no longer serves any aeronautical purpose at the airport. The sale of this parcel will provide funds for airport improvements.

Any person may inspect the request by appointment at the FAA office listed above under FOR FURTHER INFORMATION CONTACT.

In addition, any person may inspect the application, notice and other documents germane to the application in person at the Gunnison-Crested Butte Regional Airport, 711 West Rio Grande, Gunnison, Colorado, 91230.

Issued in Denver, Colorado, on November 26, 2003.
Craig A. Sparks,
Manager, Denver Airports District Office.

[FR Doc. 03-31746 Filed 12-23-03; 8:45 am]

BILLING CODE 4910-13-M